DEPARTMENT OF COMMERCE

National Oceanic and Atmospheric Administration

[RTID 0648-XF319]

North Pacific Fishery Management Council; Public Meeting

AGENCY: National Marine Fisheries Service (NMFS), National Oceanic and Atmospheric Administration (NOAA), Commerce.

ACTION: Notice of hybrid conference. Meetings of the North Pacific Fishery Management Council and its advisory committees.

SUMMARY: The North Pacific Fishery Management Council (Council) and its advisory committees will meet on Monday, December 1, 2025, through Tuesday, December 9, 2025.

DATES: The Council's Scientific and Statistical Committee (SSC) will begin at 8 a.m. on Monday, December 1, 2025, and continue through Wednesday, December 3, 2025. The Council's Advisory Panel (AP) will begin at 8 a.m. on Tuesday, December 2, 2025, and continue through Friday, December 5, 2025. The Charter Halibut Management Committee will meet on December 3, 2025, from 2 p.m. to 6 p.m. The Executive/Finance Committee will meet on December 3, 2025, from 1 p.m. to 4 p.m. The Council will begin at 8 a.m. on Thursday, December 4, 2025, and continue through Tuesday, December 9, 2025. All listed times are Alaska Time.

ADDRESSES: The meetings will be a hybrid conference. The in-person component of the meeting will be held at the Egan Center, 555 W 5th Ave, Anchorage, AK 99501, or join the meeting online through the links at https://www.npfmc.org/current-or-next-council-meeting/.

Council address: North Pacific Fishery Management Council, 1007 W 3rd Ave, Anchorage, AK 99501-2252; telephone: (907) 271-2809. Instructions for attending the meeting via video conference are given under the connection information below.

FOR FURTHER INFORMATION CONTACT: Diana Evans, Council staff; email: devans@npfmc.org; telephone: (907) 271-2809. For technical support, please contact our Council administrative staff, email: support@npfmc.org.

SUPPLEMENTARY INFORMATION:

Agenda

Monday, December 1, 2025, Through Wednesday, December 3, 2025

The SSC agenda will include the following issues:

(1) Administrative Issues.

(2) Contextual information supporting groundfish harvest specifications.

(3) GOA Groundfish harvest specifications.

(4) BSAI Groundfish specifications.

(5) BSAI Crab specifications.

The agenda is subject to change, and the latest version will be posted at https://meetings.npfmc.org/Meeting/Details/3109 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, December 2, 2025, Through Friday, December 5, 2025

The Advisory Panel agenda will include the following issues:

(1) Administrative Issues.

(2) NSRKC Participation Discussion Paper.

(3) Crab Arbitration.

(4) Crab C-Shares.

(5) EFH 5-year Review Workplan.

(6) Contextual Information Supporting Groundfish Harvest Specifications.

(7) GOA Groundfish Harvest Specifications.

(8) BSAI Groundfish Specifications.

(9) BSAI Crab Specifications.

(10) 2025 Charter Halibut Annual Management Measures.

(11) Staff Tasking.

The agenda is subject to change, and the latest version will be posted at https://meetings.npfmc.org/Meeting/Details/3108 prior to the meeting, along with meeting materials.

Wednesday, December 3, 2025

Charter Halibut Management Committee Agenda

The Charter Halibut Management Committee agenda will include (a) 2026 management measures; and (b) other business. The agenda is subject to change, and the latest version will be posted at https://meetings.npfmc.org/Meeting/Details/3104 prior to the meeting, along with meeting materials.

Executive/Finance Committee Agenda

The Council's Executive/Finance Committee will meet in Executive Session to discuss internal administrative issues.

Thursday, December 4, 2025, Through Tuesday, December 9, 2025

The Council agenda will include the following issues. The Council may take appropriate action on any of the issues identified.

(1) Approve Agenda.

(2) B Reports (Executive Director [including BS Pollock Industry Dynamic Spatial Closure Measures for 2026, IRA update], NMFS Management Report [including Final 2025 Annual Deployment Plan, NMFS Chief Scientist report], NOAA General Counsel [GC], Alaska Fisheries Science Center [AFSC], NOAA Enforcement, Alaska Department of Fish and Game [ADF&G], United States Coast Guard [USCG], United States Fish and Wildlife Service [USFWS], Advisory Panel, Scientific and Statistical Committee).

(3) Crab Arbitration.

(4) Crab C-Shares.

(5) Contextual Information Supporting Groundfish Harvest Specifications.

(6) GOA Groundfish Harvest Specifications.

(7) BSAI Groundfish Specifications.

(8) BSAI Crab Specifications.

(9) 2025 Charter Halibut Annual Management Measures.

(10) NSRKC Participation Discussion Paper.

(11) EFH 5-year Review Workplan.

(12) Staff Tasking.

The agenda is subject to change, and the latest version will be posted at https://meetings.npfmc.org/Meeting/Details/3108 prior to the meeting, along with meeting materials.

Connection Information

You can attend the meeting online using a computer, tablet, or smartphone, or by phone only. Connection information will be posted online at: https://www.npfmc.org/current-or-next-council-meeting. For technical support please contact our administrative staff, email: support@npfmc.org.

Public Comment

Public comment letters will be accepted and should be submitted electronically through the eAgenda at https://meetings.npfmc.org/Meeting/Details/3108. The Council strongly encourages written public comment for this meeting to avoid any potential for technical difficulties to compromise oral testimony. The written comment period is open from November 7, 2025, to November 28, 2025, and closes at 12 p.m. Alaska Time on Friday, November 28, 2025.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: November 13, 2025.
Rey Israel Marquez,
Acting Deputy Director, Office of Sustainable Fisheries, National Marine Fisheries Service.

[FR Doc. 2025-20021 Filed 11-14-25; 8:45 am]

BILLING CODE 3510-22-P